DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than August 2, 2012.

Interested persons are invited to submit written comments regarding the subject matter of the investigations to the Director, Office of Trade Adjustment Assistance, at the address shown below, not later than August 2, 2012.

The petitions filed in this case are available for inspection at the Office of the Director, Office of Trade Adjustment Assistance, Employment and Training Administration, U.S. Department of Labor, Room N-5428, 200 Constitution Avenue NW., Washington, DC 20210.

Signed at Washington, DC this 11th day of July 2012.
Michael W. Jaffe,
Certifying Officer, Office of Trade Adjustment Assistance.

Appendix
[18 TAA petitions instituted between 7/2/12 and 7/6/12]
TA-W | Subject firm (petitioners) | Location | Date of institution | Date of petition
81766 | Sensata Technologies, Inc. Power Controls Business (Company) | Cambridge, MD | 07/02/12 | 06/29/12
81767 | Cognizant Technology Solutions US Corporation (State/One-Stop) | Beaverton, OR | 07/02/12 | 06/29/12
81768 | AMG Resources Corporation (State/One-Stop) | Baltimore, MD | 07/02/12 | 07/02/12
81769 | Federal-Mogul Corporation (Company) | Winchester, VA | 07/02/12 | 06/29/12
81770 | Hartford Financial Services Group, Inc. (Company) | Southington, CT | 07/02/12 | 06/29/12
81771 | Ross Sand Casting #3 (Union) | Winchester, IN | 07/03/12 | 07/03/12
81772 | WellPoint, Inc. (2 Locations—IN and CA) (Company) | Newbury Park, CA | 07/03/12 | 07/02/12
81773 | IdaTech, LLC (State/One-Stop) | Bend, OR | 07/03/12 | 07/02/12
81774 | Ecolab (State/One-Stop) | St. Paul, MN | 07/05/12 | 07/03/12
81775 | Vertis Communications, Inc. (State/One-Stop) | Portland, OR | 07/05/12 | 06/18/12
81776 | HCL America, Inc. (State/One-Stop) | Webster, NY | 07/05/12 | 07/03/12
81777 | American Greetings Corporation (Workers) | Brooklyn, OH | 07/05/12 | 07/05/12
81778 | Continental Automotive Systems (State/One-Stop) | Huntsville, AL | 07/06/12 | 07/03/12
81779 | Contech Castings, LLC (Company) | Clarksville, TN | 07/06/12 | 07/05/12
81780 | American Express, Global Prepaid Servicing, Customer Serv. Term. on 08/12/12 (Workers) | Salt Lake City, UT | 07/06/12 | 07/05/12
81781 | Technicolor (Company) | Indianapolis, IN | 07/06/12 | 07/03/12
81782 | UPS (United Parcel Service) (Workers) | Carrollton, TX | 07/06/12 | 07/05/12
81783 | Pricewaterhouse Coopers LLP (Workers) | Tampa, FL | 07/06/12 | 07/03/12

[FR Doc. 2012-17841 Filed 7-20-12; 8:45 am]

BILLING CODE 4510-FN-P